DEPARTMENT OF LABOR

Office of Workers' Compensation Programs

20 CFR Part 30

RIN 1240-AA08

Claims for Compensation Under the Energy Employees Occupational Illness Compensation Program Act

AGENCY: Office of Workers' Compensation Programs, Department of Labor.

ACTION: Notice of proposed rulemaking; extension of comment period.

SUMMARY: The Department of Labor is extending the comment period for the notice of proposed rulemaking it published on November 18, 2015 (80 FR 72296). The original deadline to submit comments on the proposed regulations was January 19, 2016. That comment period is being extended for an additional 30 days. The comment period for the information collection requirements in the proposed rule ended on December 18, 2015, and that period is not being extended.

DATES: The comment period for the notice of proposed rulemaking published on November 18, 2015 (80 FR 72296) is extended. Comments on the notice of proposed rulemaking must be received by February 18, 2016.

ADDRESSES: Parties may submit comments on the regulations in the proposed rule, identified by Regulatory Information Number (RIN) 1240-AA08, by any ONE of the following methods:

Federal e-Rulemaking Portal: The Internet address to submit comments on the regulations in the proposed rule is www.regulations.gov. Follow the Web site instructions for submitting comments. Comments will also be available for public inspection on the Web site.

Mail or Hand Delivery: Submit written comments by mail to Rachel P. Leiton, Director, Division of Energy Employees Occupational Illness Compensation, Office of Workers' Compensation Programs, U.S. Department of Labor, Room C-3321, 200 Constitution Avenue NW., Washington, DC 20210. The Department will only consider mailed comments that have been postmarked by the U.S. Postal Service or other delivery service on or before the deadline for comments.

Instructions: All comments must cite RIN 1240-AA08 that has been assigned to this rulemaking. Receipt of any comments, whether by Internet, mail or hand delivery, will not be acknowledged.

FOR FURTHER INFORMATION CONTACT: Rachel P. Leiton, Director, Division of Energy Employees Occupational Illness Compensation, Office of Workers' Compensation Programs, U.S. Department of Labor, Room C-3321, 200 Constitution Avenue NW., Washington, DC 20210, Telephone: 202-693-0081 (this is not a toll-free number).

Individuals with hearing or speech impairments may access this telephone number via TTY by calling the toll-free Federal Information Relay Service at 1-800-877-8339.

SUPPLEMENTARY INFORMATION: In response to requests from members of the public, the Department has decided to extend the public comment period for the notice of proposed rulemaking it published on November 18, 2015 (80 FR 72296). The 60-day comment period that was originally scheduled to close on January 19, 2016 is being extended for another 30 days through February 18, 2016.

The notice of proposed rulemaking contains changes to the regulations governing the administration of the Energy Employees Occupational Illness Compensation Program Act of 2000, as amended (EEOICPA or Act), 42 U.S.C. 7384 et seq., which was originally enacted on October 30, 2000. The initial version of EEOICPA established a compensation program (known as Part B of the Act) to provide a uniform lump-sum payment of $150,000 and medical benefits as compensation to covered employees who had sustained designated illnesses due to their exposure to radiation, beryllium or silica while in the performance of duty for DOE and certain of its vendors, contractors and subcontractors. Part B of the Act also provides for payment of compensation to certain survivors of these covered employees, and for payment of a smaller uniform lump-sum ($50,000) to individuals (who would also receive medical benefits), or their survivors, who were determined to be eligible for compensation under section 5 of the Radiation Exposure Compensation Act (RECA), 42 U.S.C. 2210 note, by DOJ. Primary responsibility for the administration of Part B of the Act was assigned to DOL by Executive Order 13179 (“Providing Compensation to America's Nuclear Weapons Workers”) of December 7, 2000 (65 FR 77487).

The initial version of EEOICPA also created a second program (known as Part D of the Act) that required DOE to establish a system by which DOE contractor employees (and their eligible survivors) could seek assistance from DOE in obtaining state workers' compensation benefits if a Physicians Panel determined that the employee in question had sustained a covered illness as a result of work-related exposure to a toxic substance at a DOE facility. A positive panel finding that was accepted by DOE required DOE, to the extent permitted by law, to order its contractor not to contest the claim for state workers' compensation benefits. However, Congress amended EEOICPA in Subtitle E of Title XXXI of the Ronald W. Reagan National Defense Authorization Act for Fiscal Year 2005, Public Law 108-375, 118 Stat. 1811, 2178 (October 28, 2004), by abolishing Part D of the Act and creating a new Part E (codified at 42 U.S.C. 7385s through 7385s-15) that it assigned to DOL for administration. Part E established a new system of variable federal payments for DOE contractor employees, uranium workers covered by section 5 of RECA, and eligible survivors of such employees.

Leonard J. Howie III,
Director, Office of Workers' Compensation Programs.

[FR Doc. 2016-00835 Filed 1-15-16; 8:45 am]

BILLING CODE 4510-CR-P